DEPARTMENT OF THE INTERIOR

National Park Service

[NPS-WASO-NAGPRA-NPS0037739; PPWOCRADN0-PCU00RP14.R50000]

Notice of Intended Repatriation: The James Museum of Western and Wildlife Art, St. Petersburg, FL

AGENCY: National Park Service, Interior.

ACTION: Notice.

SUMMARY: In accordance with the Native American Graves Protection and Repatriation Act (NAGPRA), The James Museum of Western and Wildlife Art intends to repatriate certain cultural items that meet the definition of objects of cultural patrimony and that have a cultural affiliation with the Indian Tribes or Native Hawaiian organizations in this notice.

DATES: Repatriation of the cultural items in this notice may occur on or after May 13, 2024.

ADDRESSES: Robin Nicholson, Executive Director, The James Museum, 150 Central Avenue, St. Petersburg, FL 33701, telephone (727) 892-4200 Ext. 1013, email Robin.Nicholson@thejamesmuseum.org.

SUPPLEMENTARY INFORMATION: This notice is published as part of the National Park Service's administrative responsibilities under NAGPRA. The determinations in this notice are the sole responsibility of The James Museum of Western and Wildlife Art and additional information on the determinations in this notice, including the results of consultation, can be found in the summary or related records. The National Park Service is not responsible for the determinations in this notice.

Abstract of Information Available

A total of six cultural items have been requested for repatriation. The six objects of cultural patrimony are Pueblo of Jemez Carvings: Carving; Jemez Artist Unknown, Pekastsana (Deer), Purchased by Sondra Thorson from James McLellan via eBay on 05/26/2015; Katsina or Carving; Jemez Artist Unknown, Sehundole (Eagle Tail) Purchased by Sondra Thorson from Adobe Gallery, Santa Fe, NM on 01/27/2015; Carving; Jemez Artist Unknown, Jemez Cradle Doll Purchased by Sondra Thorson from Shiprock Trading Company of Santa Fe, NM in October of 2009; Carving; Jemez Artist Unknown, Jemez Cradle Doll Purchased by Sondra Thorson from Michael T. Ricker on 06/21/2007; Carving; Jemez Artist Unknown, K'ats'ana'ti Doll Purchased by Sondra Thorson from Michael T. Ricker on 06/03/2007; Carving; Jemez Artist Unknown, Jemez Cradle Doll Purchased by Sondra Thorson via Ebay from Michael Ricker in May of 2007.

Determinations

The James Museum of Western and Wildlife Art has determined that:

• The six objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Pueblo of Jemez, New Mexico.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 13, 2024. If competing requests for repatriation are received, The James Museum of Western and Wildlife Art must determine the most appropriate requestor prior to repatriation. Requests for joint repatriation of the cultural items are considered a single request and not competing requests. The James Museum of Western and Wildlife Art is responsible for sending a copy of this notice to the Indian Tribes and Native Hawaiian organizations identified in this notice and to any other consulting parties.

Authority: Native American Graves Protection and Repatriation Act, 25 U.S.C. 3004 and the implementing regulations, 43 CFR 10.9.

Dated: April 3, 2024.
Melanie O'Brien,
Manager, National NAGPRA Program.

[FR Doc. 2024-07719 Filed 4-10-24; 8:45 am]

BILLING CODE 4312-52-P